SURFACE TRANSPORTATION BOARD

[Docket No. EP 774 (Sub-No. 3)]

Renewal of the Passenger Rail Advisory Committee

ACTION: Notice of Federal Advisory Committee charter renewal.

AGENCY: Surface Transportation Board.

SUMMARY: In accordance with the Federal Advisory Committee Act (FACA), notice is hereby given that the Surface Transportation Board (Board) has renewed the charter of the Passenger Rail Advisory Committee (PRAC).

ADDRESSES: A copy of the charter is available on the Board's website at https://www.stb.gov/resources/stakeholder-committees/prac.

FOR FURTHER INFORMATION CONTACT: Brian O'Boyle, Designated Federal Officer, at (202) 577-4615. If you require an accommodation under the Americans with Disabilities Act, please call (202) 245-0245.

SUPPLEMENTARY INFORMATION: The Board established the PRAC in 2023 to provide advice and recommendations to the Board on issues relating to passenger rail service. See Establishment of the Passenger Rail Advisory Comm., EP 774 (STB served Nov. 13, 2023). Matters on which the PRAC advises the Board include issues relating to on-time performance of passenger trains; access by Amtrak to host carrier facilities and services (including compensation); licensing of non-Amtrak passenger rail providers; and disputes involving cost-allocation and joint use of facilities. The PRAC operates under the Federal Advisory Committee Act (5 U.S.C. Chapter 10) and meets at least twice a year. Meetings are open to the public, consistent with the Government in the Sunshine Act, Public Law 94-409 (1976).

The Board has determined that the continuation of the committee is in the public interest and has therefore renewed the charter for an additional two years.

Further information about the PRAC is available on the Board's website at https://www.stb.gov/resources/stakeholder-committees/prac and at the General Services Administration's FACA database at https://facadatabase.gov/.

Decided: December 12, 2025.
By the Board, Anika S. Cooper, Chief Counsel, Office of Chief Counsel.
Jeffrey Herzig,
Clearance Clerk.

[FR Doc. 2025-22929 Filed 12-15-25; 8:45 am]

BILLING CODE 4915-01-P